DEPARTMENT OF THE INTERIOR

National Park Service

Gettysburg National Military Park Advisory Commission

AGENCY: National Park Service, Interior.

ACTION: Notice of two meetings to be held on April 14, 2011 and August 18, 2011.

SUMMARY: This notice sets forth the dates of April 14, 2011 and August 18, 2011 of the Gettysburg National Military Park Advisory Commission.

DATES: The public meetings will be held on April 14, 2011 and August 18, 2011 from 7 p.m. to 9 p.m.

Location: The meetings will be held at the Ford Education Center in the Visitor Center/Museum Complex, 1195 Baltimore Pike, Gettysburg, Pennsylvania 17325.

Agenda: The April 14, 2011 and August 18, 2011 meetings will consist of Election of the Chair and Vice-Chair, the Sub-Committee Reports from the Historical, Executive, and Interpretive Committees; Federal Consistency Reports Within the Gettysburg Battlefield Historic District; Operational Updates on Park Activities which will consist of Historic Landscape Rehabilitation, Park Construction, Cyclorama Environmental Assessment Update, Freedom Transit Initiative, FY11 Appropriations and the Citizens Open Forum where the public can make comments and ask questions on any park activity.

FOR FURTHER INFORMATION CONTACT: Bob Kirby, Superintendent, Gettysburg National Military Park, 1195 Baltimore Pike, Suite 100, Gettysburg, Pennsylvania 17325.

SUPPLEMENTARY INFORMATION: The meeting will be open to the public. Any member of the public may file with the Commission a written statement concerning agenda items. The statement should be addressed to the Gettysburg National Military Park Advisory Commission, 1195 Baltimore Pike, Suite 100, Gettysburg, Pennsylvania 17325. Before including your address, phone number, e-mail address, or other personal identifying information in your comment, you should be aware that your entire comment—including your personal identifying information—may be made publicly available at any time. While you can ask us in your comment to withhold your personal identifying information from public review, we cannot guarantee that we will be able to do so.

Dated: February 10, 2011.
Bob Kirby,
Superintendent, Gettysburg NMP/Eisenhower NHS.

[FR Doc. 2011-4818 Filed 3-2-11; 8:45 am]

BILLING CODE 4310-JT-P